NUCLEAR REGULATORY COMMISSION

Atomic Safety and Licensing Board

[Docket No. 52-009-ESP; ASLBP No. 04-823-03-ESP]

In the Matter of System Energy Resources, Inc. (Early Site Permit for Grand Gulf ESP Site); Notice of Opportunity To Make Oral or Written Limited Appearance Statements

July 21, 2006.

Before Administrative Judges: Lawrence G. McDade, Chairman; Nicholas G. Trikouros, and Dr. Richard E. Wardwell.

This proceeding involves the application of System Energy Resources, Inc., (SERI) for a 10 CFR Part 52 early site permit (ESP). The ESP application seeks approval of the site at the existing Grand Gulf nuclear power station in Claiborne County, Mississippi, for the possible future construction of a new nuclear power generation facility.

SERI filed its application on October 16, 2003. Thereafter, the National Association for the Advancement of Colored People (Claiborne County, Mississippi Branch), Nuclear Information and Resource Service, Public Citizen, and the Mississippi chapter of the Sierra Club (Petitioners) filed a request for hearing and petition to intervene. Based on the pleadings submitted, and after hearing argument regarding the standing of the Petitioners and the admissibility of their seven proffered contentions, the previously assigned Atomic Safety and Licensing Board determined that although Petitioners had established the requisite standing to intervene in this proceeding, they had failed to submit at least one admissible contention. LBP-04-19, 60 NRC 277 (2004). Petitioners collectively appealed the Board's Order and, on January 18, 2005, the Commission affirmed the Board's rulings. CLI-05-04, 61 NRC 10 (2005). Therefore, the only matter remaining before this Board is satisfaction of the Mandatory Hearing requirement with regard to SERI's ESP Application. 42 U.S.C. 2235 (2000); 10 CFR 52.18, 52.21, 52.24. This Atomic Safety and Licensing Board hereby gives notice that, in accordance with 10 CFR 2.315(a), the Board will entertain oral limited appearance statements from members of the public in connection with this proceeding at the date, time, and location specified below.

A. Date, Time, and Location of Oral Limited Appearance Statement Session

The session will be held on the following date at the specified location and time:

Date: August 28, 2006.

Time: 6 p.m. CDT until 9 p.m. CDT.

Location: City Hall, 1005 College Street, Port Gibson, Mississippi 39150.

B. Participation Guidelines for Oral Limited Appearance Statements

Any person not a party, or the representative of a party, to the proceeding will be permitted to make an oral statement setting forth his or her position on matters of concern relating to this proceeding. Although these statements do not constitute testimony or evidence in the proceeding, they nonetheless help the Board and/or the parties in their consideration of the issues.

Oral limited appearance statements will be entertained during the hours specified above, or such lesser time as might be necessary to accommodate the speakers who are present. In this regard, if all scheduled and unscheduled speakers present at the session have made a presentation, the Licensing Board reserves the right to terminate the session before the ending time listed above. During the limited appearance session no signs or banners will be permitted in the hearing room.

In order to allow all interested persons an opportunity to address the Board, the time allotted for each statement normally will be no more than five (5) minutes, but may be limited, or expanded, depending on the number of written requests to make oral statements that are submitted in accordance with Section C below, and/or the number of persons present at the designated time. At the outset of each statement, the speaker should identify himself or herself by stating their name, city and state of residence, and stating whether they have any affiliation (such as employment, consultancy, or membership) with any of the parties (SERI or the NRC).

C. Submitting a Request To Make an Oral Limited Appearance Statement

Persons wishing to make an oral statement who have submitted a timely written request to do so will be given priority over those who have not filed such a request. To be considered timely, a written request to make an oral statement must either be mailed, faxed, or sent by e-mail so as to be received by 5 p.m. EDT on August 21, 2006. Written requests to make an oral statement should be submitted to:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written request to make an oral statement should be sent to the Chairman of this Licensing Board as follows:

Mail: Administrative Judge Lawrence G. McDade, c/o: Debra Wolf, Esq., Law Clerk, Atomic Safety and Licensing Board Panel, Mail Stop T-3 F23, U.S. Nuclear Regulatory Commission, Washington, DC 20555-0001.

Fax: (301) 415-5599 (verification (301) 415-6094).

E-mail: daw1@nrc.gov.

D. Submitted Written Limited Appearance Statements

A written limited appearance statement may be submitted to the Board regarding this proceeding at any time, either in lieu of or in addition to any oral statement. Such statements should be sent to the Office of the Secretary using the methods prescribed above, with a copy to the Licensing Board Chairman.

E. Availability of Documentary Information Regarding the Proceeding

Documents relating to this proceeding are available for public inspection at the Commission's Public Document Room (PDR), located at One White Flint North, 11555 Rockville Pike (first floor), Rockville, Maryland, or electronically from the publicly available records component of NRC's document system (ADAMS). ADAMS is accessible from the NRC Web site at http://www.nrc.gov/reading-rm/adams.html (Electronic Reading Room). Persons who do not have access to ADAMS or who encounter problems in accessing the documents located in ADAMS should contact the NRC PDR reference staff by telephone at (800) 397-4209 or (301) 415-4737, or by e-mail to pdr@nrc.gov.

F. Scheduling Information Updates

Any updated/revised scheduling information regarding the limited appearance session can be found on the NRC Web site at http://www.nrc.gov/public-involve/public-meetings/index.cfm or by calling (800) 368-5642, extension 5036, or (301) 415-5036.

Dated in Rockville, Maryland, July 21, 2006.
For the Atomic Safety and Licensing Board.¹
Lawrence G. McDade,
Chairman, Administrative Judge.

¹ Copies of this Notice were sent this date by Internet electronic mail transmission to counsel for (1) applicant SERI; and (2) the NRC Staff.

[FR Doc. 06-6507 Filed 7-26-06; 8:45 am]

BILLING CODE 7590-01-P